DEPARTMENT OF TRANSPORTATION

Federal Highway Administration

[FHWA Docket No. FHWA-1999-5382]

Implementation Guidance and Selection Criteria for Interstate Maintenance Discretionary Program Funds

AGENCY: Federal Highway Administration (FHWA), DOT.

ACTION: Notice of final selection criteria for Fiscal Year (FY) 2001 and beyond.

SUMMARY: The FHWA adopts as final the selection criteria to be used for evaluating candidate projects for Interstate Maintenance Discretionary (IMD) Program funds for FY 2001 and beyond as published on Friday, April 23, 1999, at 64 FR 20048. These are the same general selection criteria that have been used by FHWA for several years to evaluate candidates for this discretionary program. The FHWA Division Offices in each State will use these selection criteria to solicit candidate projects from State transportation agencies for FY 2001 and beyond. Also, this notice responds to the public comments to this docket.

FOR FURTHER INFORMATION CONTACT: Cecilio Leonin, Office of Program Administration, (202) 366-4651; or Harold Aikens, Office of the Chief Counsel, (202) 366-0764; Federal Highway Administration, 400 Seventh Street SW., Washington DC 20590. Office hours are from 7:45 a.m. to 4:15 p.m., e.t., Monday through Friday except Federal holidays.

SUPPLEMENTARY INFORMATION:

Electronic Access

An electronic copy of this document may be downloaded using a computer, modem and suitable communications software from the Government Printing Office's Electronic Bulletin Board Service at (202) 512-1661. Internet users may reach the Office of the Federal Register's home page at http://www.nara.gov/fedreg and the Government Printing Office?s database at http://www.access.gpo.gov/nara. Internet users may also access the written comments on the interim guidance [FHWA Docket No. FHWA-1999-5382] received by the U.S. DOT Dockets by using the universal resource locator (URL): http://www.dms.dot.gov. It is available 24 hours each day, 365 days each year. Please follow the instructions online for more information and help.

The solicitation memorandum will be available each year of the program on the FHWA web site at: http://www.fhwa.dot.gov/discretionary.

Background

On April 23, 1999, at 64 FR 20048, the FHWA solicited comments on the selection criteria to be used by the FHWA for evaluating candidate projects for the IMD program for FY 2001 and beyond. These are the same general selection criteria that the FHWA has used for several years to evaluate candidates for this discretionary program.

Discussion of Comments

Comments in response to the April 23, 1999, notice were received from two State transportation departments.

The Florida Department of Transportation proposed that a donor State be given priority for the IMD Program funds over States that are receiving a more equitable balance between Federal funds collected and Federal funds apportioned. Section 118(c)(3) of title 23, U.S. Code, provides the statutory criteria for priority consideration of the following: (1) Any project the cost of which exceeds $10 million, and (2) a project on any high volume route in an urban area, or high truck-volume route in a rural area. The more important non-regulatory criteria considered are the expeditious completion of large-scale viable projects and the transportation benefits and advantages that will be derived upon completion of the project, notably, easing of traffic congestion and enhancement of safety to the motoring public. It was never the intent of this program to be an equity adjustment for donor States.

The Illinois Department of Transportation (ILDOT) submitted the following two recommendations: (1) That preference be given to projects with relatively high ratio of cost of project to a State's annual Interstate Maintenance (IM) apportionment since such IM projects impose a financial burden on the State's available Federal funds, and (2) that preference be given to projects that have relatively large volumes of truck traffic in urban areas, as well as in rural areas.

In regard to the ILDOT's first recommendation, the FHWA believes that the congressional intent is to give priority to viable large-scale projects to expedite their completion where available apportionments are insufficient to allow such projects to proceed on a timely basis. Section 118(c)(3) of title 23, U.S. Code, requires that priority consideration be given to projects which exceed $10 million regardless of the amount of a State's annual apportionment of IM funds. Regardless of the size of this annual apportionment, 23 U.S.C. 118(c)(2)(A) requires that the State has obligated or demonstrates that it will obligate in the fiscal year all of its apportionments of IM funds to be eligible for IMD funds except an amount that, by itself, is not sufficient to pay the Federal share of the cost of a requested project.

In response to the ILDOT's second recommendation, the law explicitly provides that preference be given to projects as follows: (1) For urban areas, the total traffic volume should be considered; (2) while in rural areas, truck traffic volume should be taken into account. See 23 U.S.C. 118(c)(3). The FHWA believes that the congressional intent is to consider urban areas, which have heavier volumes of mixed vehicular traffic, separately from rural areas. Rural areas by their very nature have less traffic volume, but usually have a high percentage of truck traffic. Thus, when the FHWA considers candidate projects in rural areas, preference is given to projects that have relatively large volumes of truck traffic.

Based on the comments received, the FHWA will make no changes and will continue to use the same basic selection criteria for FY 2001 and beyond for the IM discretionary program. A selection criterion may be added for any individual year that reflects a special emphasis area but, for the most part, the selection criteria will remain unchanged. Accordingly, the FHWA hereby adopts as final the selection criteria to be used for evaluating candidate projects for IMD program funds for FY 2001 and beyond as published at 64 FR 20048 on Friday, April 23, 1999.

Authority: 23 U.S.C. 118 and 315; and 49 CFR 1.48.

Issued on: August 10, 2000.
Walter L. Sutton, Jr.,
Federal Highway Deputy Administrator.

[FR Doc. 00-20940 Filed 8-16-00; 8:45 am]

BILLING CODE 4910-22-P